DEPARTMENT OF HEALTH AND HUMAN SERVICES

Centers for Medicare & Medicaid Services

[Document Identifier CMS-359 and -360]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension without change of a currently approved collection. Title of Information Collection: Comprehensive Outpatient Rehabilitation Facility (CORF) Eligibility and Survey Forms. Use: CMS-359 serves as the application for facilities wishing to participate in the Medicare/Medicaid program as CORFs. The form initiates the process for obtaining a decision as to whether the conditions of participation are met. It also promotes data reduction (key punching) or introduction to and retrieval from the Medicare/Medicaid Automated Certification System, ASPEN, by the CMS Regional Offices (ROs). Should any question arise regarding the structure of the organization, this information is readily available without going through the process of completing the form again.

CMS-360 is used by the State survey agency to record data collected to determine provider compliance with individual conditions of participation and to report it to the Federal government. CMS has the responsibility and authority for certification decisions which are based on provider compliance with the conditions of participation. The information needed to make these decisions is available to CMS only through use of information abstracted from the survey checklists. The form is primarily a worksheet designed to facilitate keypunching into the ASPEN by the State Agency after the survey is completed.

Form Number: CMS-359 (CORF Eligibility Form) and CMS-360 (CORF Survey Report Form); OCN 0938-0267. Frequency: Occasionally. Affected Public: Private Sector (Business or other for-profits). Number of Respondents: 295. Total Annual Responses: 42. Total Annual Hours: 137. (For policy questions regarding this collection contact Georgia Johnson at 410-786-6859. For all other issues call 410-786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by August 27, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number _____, Room C4-26-05, 7500 Security Boulevard, Baltimore, Maryland 21244-1850.

Dated: June 22, 2012.
Martique Jones,
Director, Regulations Development Group, Division B, Office of Strategic Operations and Regulatory Affairs.

[FR Doc. 2012-15694 Filed 6-26-12; 8:45 am]

BILLING CODE 4120-01-P